DEPARTMENT OF TRANSPORTATION

Federal Aviation Administration

Notice of Public Information Sessions on Alternatives Analysis for the Proposed LaGuardia Airport Access Improvement Project at LaGuardia Airport (LGA), New York City, Queens County, New York

AGENCY: Federal Aviation Administration, Department of Transportation.

ACTION: Notice of Public Information Sessions.

SUMMARY: The Federal Aviation Administration (FAA) announces its intent to hold Public Information Sessions to present the Alternatives Analysis for the Proposed LaGuardia Airport Access Improvement Project Environmental Impact Statement (EIS) for LaGuardia Airport (LGA), New York City, Queens County, New York. The FAA is the lead agency on the preparation of the EIS and is providing this opportunity for the public to learn about the Alternatives Analysis that has been conducted.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION: As the lead federal agency for the preparation of the EIS for the Proposed Action at LaGuardia Airport (LGA or Airport) in New York City, Queens County, New York, the FAA is preparing the EIS in compliance with the National Environmental Policy Act (NEPA) of 1969, as amended (42 U.S.C. 4321 et seq.) and Council on Environmental Quality (CEQ) Regulations for Implementing the Procedural Provisions of NEPA (40 CFR parts 1500-15080). The preparation of the EIS follows FAA regulations and policies for implementing NEPA published in FAA Order 1050.1F, Environmental Impacts: Policies and Procedures and FAA Order 5050.4B, National Environmental Policy Act (NEPA) Implementing Instructions for Airport Actions.

The Port Authority of New York and New Jersey (Port Authority), the operator of LGA, proposes the following project components of the Proposed Action:

• Construction of an above ground fixed guideway automated people mover (APM) system approximately 2.3 miles in length that extends from the LGA Central Hall Building to the Metropolitan Transportation Authority (MTA) New York City Transit (NYCT) Subway 7 Line Mets-Willets Point Station and the Port Washington Branch of the MTA Long Island Rail Road (LIRR) Mets-Willets Point Station;

• Construction of two on-Airport APM stations;

• Construction of one off-Airport APM station at Mets-Willets Point that provides connections to the Mets-Willets Point LIRR and NYCT Subway 7 Line stations;

• Construction of on-airport passenger walkway systems to connect the APM stations to the passenger terminals, parking garages, public transportation, and ground transportation facilities;

• Construction of a multi-level APM operations, maintenance, and storage facility (OMSF) that includes approximately 500 Airport employee parking spaces, 250 MTA employee parking spaces, 50 APM employee parking spaces, and 200 replacement parking spaces for Citi Field event parking;

• Construction of three traction power substations: one located near the on-Airport East APM Station, another near the Willets Point APM Station, and the third at the OMSF to provide power to the APM guideway;

• Construction of a 27kV main substation located within the OMSF structure; and

• Construction of utilities infrastructure, both new and modified, as needed, to support the Proposed Action.

The Proposed Action also includes various enabling projects to allow construction and connected actions, including utility relocation and demolition of certain existing facilities; reconstruction and/or relocation of the Passerelle Bridge; modifications to the MTA LIRR Mets-Willets Point Station, including service changes to the LIRR Port Washington Line; and the relocation of several Flushing Bay World's Fair Marina facilities, including a boat lift, Travelift finger piers and floating dock, Marina office, and boat storage.

The Port Authority will be requesting to Impose and Use Passenger Facility Charges (PFC) for the construction of the Proposed Action. The FAA's decision over whether to approve a PFC application is a federal action that must first be reviewed under NEPA. The proposed action is also an undertaking that must be reviewed under Section 106 of the National Historic Preservation Act.

The FAA is required to consider a range of reasonable alternatives that could potentially meet the purpose and need: To provide a time-certain transit alternative for air passenger and employee access to LGA; to provide supplemental access to LGA; to reduce passenger vehicle trips to and from LGA; and to provide adequate airport employee replacement parking. A total of 47 project alternatives have been identified for the Proposed Action from various sources including the Port Authority, scoping comments, past studies, and the FAA. Because of the number of alternatives considered and the complexity of the alternatives analysis, the FAA is sharing the alternatives analysis to afford the public an opportunity to ask questions on the alternatives analysis prior to completion and release of the Draft EIS; the Draft EIS is currently scheduled to be released in summer 2020. We cannot accept verbal testimony or formal comments at the information session. Formal comments on the alternatives analysis and the overall project will be solicited during the review of the Draft EIS.

The alternatives evaluated have been categorized into ten groups, as follows:

Group One—No Action Alternative (1 alternative): Under this alternative, the Port Authority would take no action to develop an APM system or other alternative form of transportation to and from the Airport.

Group Two—Diversion of Air Traffic from LGA (2 alternatives): Transfer or shifting of aviation activity or air passengers to another existing public airport (or airports) in the New York metropolitan area or to another form of transportation.

Group Three—Use of Other Modes of Transportation (3 alternatives): Use of other modes of transportation, including, ferry service, helicopter service, or gondola service.

Group Four—Transportation Systems Management (3 alternatives): Modifications to existing bus service to LGA.

Group Five—Transportation Demand Management (1 alternative): Use of measures to reduce vehicular travel to and from the Airport.

Group Six—Emerging Technologies (2 alternatives): Use of Transportation Network Companies (TNC) or autonomous vehicles.

Group Seven—Off-Airport Roadway Expansion (5 alternatives): Increase the capacity of roadways surrounding and providing access to the Airport such as the Grand Central Parkway or providing dedicated bus lanes or an elevated busway.

Group Eight—Subway Extension (7 alternatives): Extension of existing subway lines to LGA.

Group Nine—Fixed Guideway (20 alternatives): Construction of an elevated fixed guideway APM system to LGA.

Group Ten—Rail (3 alternatives): Extension of existing commuter rail or construction of a new commuter rail alignment to LGA.

The FAA developed screening criteria to evaluate the 47 alternatives and conducted a screening analysis of all alternatives using those criteria. The purpose of the screening analysis is to assist the FAA in its determination of which of the alternatives to the Proposed Action are reasonable. The public information sessions will provide the public information on the alternatives evaluated, the screening criteria, the alternatives screening process, and the results of the screening evaluation. The FAA has not made a decision regarding the Proposed Action.

Two public information sessions for the general public will be held. The public information sessions will be held from 6:30 p.m. to 8:30 p.m. Eastern Time on Tuesday, January 14, 2020 and from 6:30 p.m. to 8:30 p.m. Eastern Time on Wednesday, January 15, 2020. The public information sessions will be conducted at the New York LaGuardia Airport Marriott Hotel at 102-05 Ditmars Boulevard, East Elmhurst, New York. A legal notice will also be placed in newspapers having general circulation in the study area. The newspaper notice will notify the public that information sessions will be held to share the alternatives screening process and results. The public information sessions will be conducted in an open house format with project information displayed and representatives from the FAA and the EIS Team available to answer questions. Translation services, including an assistive listening device, and sign and oral interpretation can be made available at the information sessions, if requested 10 calendar days before the sessions. The information sessions will be open to all persons on a space-available basis. There will be no admission fee or other charge, including parking, to attend and participate (parking validation will be available).

More information about the LGA Access Improvement Project, the EIS, and the public information sessions can be found at: www.LgaAccessEIS.com.

Issued in Jamaica, New York, November 25, 2019.
Evelyn Martinez,
Manager, New York Airport District Office, Airports Division, Eastern Region.

[FR Doc. 2019-26071 Filed 12-3-19; 8:45 am]

BILLING CODE 4910-13-P